DEPARTMENT OF ENERGY

Federal Energy Regulatory Commission

Notice of Settlement Agreement and Soliciting Comments

February 8, 2007.

Take notice that the following settlement agreement has been filed with the Commission and is available for public inspection.

a. Type of Application: Settlement Agreement.

b. Project No.: P-2101-084.

c. Date filed: February 1, 2007.

d. Applicant: Sacramento Municipal Utility District (SMUD).

e. Name of Project: Upper American River Project.

f. Location: On the Rubicon River, Silver Creek, and South Fork of the American River near Placerville, California. The project affects 6,375 acres of Federal land administered by the El Dorado National Forest and 54 acres of Federal land administered by the Bureau of Land Management.

g. Filed Pursuant to: Rule 602 of the Commission's Rules of Practice and Procedure, 18 CFR 385.602.

h. Applicant Contact: Michael A. Swiger, Van Ness Feldman, Attorneys at Law, 1050 Thomas Jefferson St, NW., Washington, DC 20007, (202) 298-1891.

i. FERC Contact: Jim Fargo, 888 First St, NE., Washington, DC 20426, (202) 502-6095.

j. Deadline for filing comments: March 10, 2007. Reply comments due March 25, 2007.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. SMUD filed a settlement on behalf of itself and the majority of Federal and State agencies and other stakeholders involved in the relicense proceeding. The purpose of the settlement agreement is to resolve all issues, except those that may arise under the Endangered Species Act, that have or could have been raised by the settling parties in connection with the Commission's issuance of a new license for the project and to establish SMUD's obligations for the protection, mitigation, and enhancement of resources affected by the project. SMUD asks that the settlement become the preferred alternative in lieu of the preferred alternative identified in the application for new license, filed with the Commission on July 15, 2005.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E7-2587 Filed 2-14-07; 8:45 am]

BILLING CODE 6717-01-P